DEPARTMENT OF THE TREASURY

Office of Foreign Assets Control

Notice of OFAC Sanctions Actions Imposed on Persons Identified by the Secretary of State Pursuant to the Countering America's Adversaries Through Sanctions Act

AGENCY: Office of Foreign Assets Control, Treasury.

ACTION: Notice.

SUMMARY: The U.S. Department of the Treasury's Office of Foreign Assets Control (OFAC) is publishing the names of one or more persons that have been placed on OFAC's Specially Designated Nationals and Blocked Persons List (SDN List) based on OFAC's action to impose sanctions on persons identified by the Secretary of State pursuant to the Countering America's Adversaries Through Sanctions Act. All property and interests in property subject to U.S. jurisdiction of these persons are blocked, and U.S. persons are generally prohibited from engaging in transactions with them.

DATES: See SUPPLEMENTARY INFORMATION section for applicable date(s).

FOR FURTHER INFORMATION CONTACT: OFAC: Associate Director for Global Targeting, tel.: 202-622-2420; Assistant Director for Sanctions Compliance & Evaluation, tel.: 202-622-2490; Assistant Director for Licensing, tel.: 202-622-2480.

SUPPLEMENTARY INFORMATION:

Electronic Availability

The Specially Designated Nationals and Blocked Persons List and additional information concerning OFAC sanctions programs are available on OFAC's website (www.treas.gov/ofac).

Notice of OFAC Actions

Background: Section 106(a) of the Countering America's Adversaries Through Sanctions Act (CAATSA) requires the Secretary of State to submit to the appropriate congressional committees, no later than 90 days after August 2, 2017, the date of enactment of CAATSA, and annually thereafter, a list of each person the Secretary determines, based on credible evidence, on or after August 2, 2017: (1) Is responsible for extrajudicial killings, torture, or other gross violations of internationally recognized human rights committed against individuals in Iran who seek (A) to expose illegal activity carried out by officials of the Government of Iran; or (B) to obtain, exercise, defend, or promote internationally recognized human rights and freedoms, such as the freedoms of religion, expression, association, and assembly, and the rights to a fair trial and democratic elections; or (2) acts as an agent of or on behalf of a foreign person in a matter relating to an activity described in paragraph (1) above. Section 106(b) of CAATSA authorizes the Secretary of the Treasury, in consultation with the Secretary of State, pursuant to authority delegated by the President, to block all transactions in all property and interests in property of a person on the list required by section 106(a) of CAATSA in accordance with the International Emergency Economic Powers Act (50 U.S.C. 1701 et seq.), if such property and interests in property are in the United States, come within the United States, or are or come within the possession or control of a United States person.

The Secretary of State has identified the following persons in a list submitted to the appropriate congressional committees pursuant to section 106(a) of CAATSA. Accordingly, on September 24, 2020, the Director of OFAC, acting pursuant to delegated authority, has taken the actions described below to impose the sanctions set forth in Section 106(b)(1) of CAATSA with respect to the persons listed below.

Entities

1. ADEL ABAD PRISON (a.k.a. ADELABAD PRISON; a.k.a. SHIRAZ CENTRAL PRISON; a.k.a. “PROSPEROUS PLACE OF JUSTICE”), Shiraz, Fars Province, Iran; Additional Sanctions Information—Subject to Secondary Sanctions [CAATSA—IRAN].

2. BRANCH 1 OF THE SHIRAZ REVOLUTIONARY COURT (a.k.a. FIRST BRANCH OF THE REVOLUTIONARY COURT OF SHIRAZ; a.k.a. FIRST BRANCH OF THE SHIRAZ REVOLUTIONARY COURT), New Quran Boulevard, District 3, Shiraz City, Fars Province, Iran; Additional Sanctions Information—Subject to Secondary Sanctions [CAATSA—IRAN].

3. ORUMIYEH PRISON (a.k.a. URMIA CENTRAL PRISON; a.k.a. URMIA PRISON), Orumiyeh City, West Azerbaijan Province, Iran; Additional Sanctions Information—Subject to Secondary Sanctions [CAATSA—IRAN].

4. VAKILABAD PRISON (a.k.a. MASHHAD CENTRAL PRISON; a.k.a. MASHHAD PRISON; a.k.a. VAKIL ABAD PRISON), Mashhad City, Mashhad Province, Iran; Additional Sanctions Information—Subject to Secondary Sanctions [CAATSA—IRAN].

Individuals

The Director of OFAC has blocked all property and interests in property that are in the United States, that come within the United States, or that are or come within the possession or control of any United States person, including any overseas branch, and which may not be transferred, paid, exported, withdrawn, or otherwise dealt in, of all above named persons. These persons have been added to OFAC's List of Specially Designated Nationals and Blocked Persons and include the identifying tag “CAATSA—IRAN.”

Dated: September 24, 2020.
Andrea M. Gacki,
Director, Office of Foreign Assets Control, U.S. Department of the Treasury.

[FR Doc. 2020-24076 Filed 12-22-20; 8:45 am]

BILLING CODE 4810-AL-P